DEPARTMENT OF TRANSPORTATION

Federal Aviation Administration

14 CFR Part 39

[Docket No. FAA-2010-0122; Directorate Identifier 2009-CE-067-AD; Amendment 39-16338; AD 2010-13-07]

RIN 2120-AA64

Airworthiness Directives; Piper Aircraft, Inc. Models PA-32R-301T and PA-46-350P Airplanes

AGENCY: Federal Aviation Administration (FAA), DOT.

ACTION: Final rule; correction.

SUMMARY: This document makes a correction to AD 2010-13-07, which was published in the Federal Register on June 23, 2010 (75 FR 35619), and applies to certain Piper Aircraft, Inc. Models PA-32R-301T and PA-46-350P airplanes. AD 2010-13-07 requires you to replace V-band exhaust couplings, part number (P/N) Lycoming 40D21162-340M or Eaton/Aeroquip 55677-340M with an improved design Eaton/Aeroquip P/N NH1009399-10 or Lycoming P/N 40D23255-340M. In the Summary and Discussion sections of the published AD, we incorrectly stated that the AD requires replacing any spot-welded, V-band exhaust coupling with a riveted, V-band exhaust coupling instead of stating the specific P/N to be replaced. Also, in the Cost of Compliance section, we incorrectly stated that Model PA-32R-301T airplanes, instead of Model PA-46-350P airplanes, are equipped with two of the affected V-band clamps. We are issuing this document to help eliminate any confusion that this AD may have created.

DATES: The effective date of this correction is July 26, 2010. The effective date of this AD (2010-13-07) remains July 28, 2010.

FOR FURTHER INFORMATION CONTACT: Darby Mirocha, Aerospace Engineer, FAA, Atlanta Aircraft Certification Office (ACO), 1701 Columbia Avenue, College Park, Georgia 30337; telephone: (404) 474-5573; fax: (404) 474-5606; e-mail: darby.mirocha@faa.gov.

SUPPLEMENTARY INFORMATION:

Discussion

On June 14, 2010, the FAA issued AD 2010-13-07, Amendment 39-16338 (75 FR 35619, June 23, 2010), which applies to certain Piper Aircraft, Inc. Models PA-32R-301T and PA-46-350P airplanes. AD 2010-13-07 requires you to replace V-band exhaust couplings, P/N Lycoming 40D21162-340M or Eaton/Aeroquip 55677-340M with an improved design Eaton/Aeroquip P/N NH1009399-10 or Lycoming P/N 40D23255-340M.

In the published AD, we incorrectly stated in the the Summary and Discussion sections that the AD requires replacing any spot-welded, V-band exhaust coupling with a riveted, V-band exhaust coupling instead of stating the specific P/N to be replaced. Also, in the Cost of Compliance section, we incorrectly stated which of the affected model airplanes are equipped with two of the affected V-band clamps.

Need for the Correction

This correction is needed to help eliminate any confusion that this AD may have created.

Correction of Publication

Accordingly, the publication of June 23, 2010 (75 FR 35619), of Amendment 39-16338; AD 2010-13-07, which was the subject of FR Doc. 2010-14991, is corrected as follows:

On page 35619, under the heading “Summary,” in line 5, change the word “any” to “specific.”

On page 35620, under the heading “Discussion,” in line 11, change the word “any” to “specific.”

On page 35620, under the heading “Comments,” under the subheading “Comment Issue No. 2: Correct the Cost of Compliance,” in paragraph 3, change the second sentence to “After further research, we determined that Model PA-46-350P (Mirage) has two of the affected V-Band clamps installed, and Model PA-32R-301T (Saratoga II TC) has one.”

On page 35620, under the heading “Costs of Compliance,” change the entire section to read as follows:

“We estimate that this AD affects 596 airplanes in the U.S. registry provided they have the affected V-band exhaust coupling installed.

We estimate the following costs to do the replacement for Model PA-32R-301T airplanes. These airplanes have one V-band clamp installed:

Labor cost | Parts cost | Total cost per Model PA-32R-301T airplane
2 work-hours × $85 per hour = $170 | $714 | $884

We estimate the following costs to do the replacement for Model PA-46-350P airplanes. These airplanes have two V-band clamps installed:

Labor cost | Parts cost | Total cost per Model PA-46-350P airplane
2 work-hours per V-band clamp. 2 clamps per airplane: 4 work-hours × $85 per hour = $340 | $714 per V-band clamp. $714 × 2 = $1,428 | $1,768

The effective date of this AD (2010-13-07) remains July 28, 2010.

Issued in Kansas City, Missouri, on July 15, 2010.
Kim Smith,
Manager, Small Airplane Directorate, Aircraft Certification Service.

[FR Doc. 2010-18023 Filed 7-23-10; 8:45 am]

BILLING CODE 4910-13-P